NUCLEAR REGULATORY COMMISSION

[Docket Nos. 50-254 and 50-265]

Exelon Generation Company, LLC and Midamerican Energy Company, Quad Cities Nuclear Power Station, Units 1 and 2; Revocation of Exemptions

1.0 Background

Exelon Generation Company, LLC (EGC, the licensee), is the holder of Facility Operating License Nos. DPR-29 and DPR-30, which authorize operation of the Quad Cities Nuclear Power Station, Units 1 and 2 (Quad Cities). The licenses provide, among other things, that the facility is subject to all rules, regulations, and orders of the U.S. Nuclear Regulatory Commission (NRC, or the Commission) now or hereafter in effect.

The facility consists of two boiling water reactors located in Rock Island County, Illinois.

2.0 Request/Action

Title 10 of the Code of Federal Regulations (10 CFR), § 50.48, 10 CFR part 50, Appendix A, Criterion 3, and 10 CFR Part 50, Appendix R, establish requirements and design criteria for fire protection at operating nuclear power plants. Exemptions from certain of these regulations had previously been granted for Quad Cities. These exemptions are described as: (1) An exemption which allows fuse pulling to preclude operation of the reactor relief valves; (2) an exemption which allows for a lack of emergency lighting for suppression pool level instrumentation; (3) an exemption which allows a lack of suppression in the vicinity of electrical equipment; (4) an exemption which allows a lack of 3-hour fire barriers in fire zones 1.1.1.1 (Unit 1) and 1.1.2.1 (Unit 2); (5) an exemption which allows a lack of 3-hour fire barriers between redundant residual heat removal trains in the reactor building and turbine building (Units 1 and 2); (6) an exemption which allows for a lack of 3-hour fire barriers between equivalent fire area 23-1 (8.2.8.D) and the northern and central zone groups; (7) an exemption which allows for a lack of 3-hour fire barriers for certain 4-kV bus duct penetrations; (8) an exemption which allows a lack of 3-hour-rated dampers in certain standby gas treatment and reactor building ventilation ducts; and (9) an exemption which allows a lack of complete detection and suppression throughout the reactor building (Units 1 and 2).

The licensee evaluated the above exemptions using the NRC's guidance and concluded that the exemptions are no longer needed. Therefore, by adopting the letters dated June 2 and August 3, 2000, from the predecessor licensee of the facility, the Commonwealth Edison Company (ComEd), as supplemented by letters dated May 23 and September 18, 2001, the licensee requested revocation of the above exemptions. By letter dated February 7, 2001, EGC assumed responsibility for all pending NRC actions that were requested by ComEd.

3.0 Discussion

Pursuant to 10 CFR 50.12, the Commission may, upon application by any interested person or upon its own initiative, grant exemptions from the requirements of 10 CFR part 50 when (1) the exemptions are authorized by law, will not present an undue risk to public health or safety, and are consistent with the common defense and security; and (2) when special circumstances are present. On June 23, 1983, July 21, 1988, and February 25, 1991, the NRC granted the above exemptions from the technical requirements of 10 CFR part 50, Appendix R, Section III.G or III.J, related to fire protection of safe shutdown capability or emergency lighting, respectively.

Through analysis or plant modification, the licensee has shown that the above exemptions are no longer required. The staff examined the licensee's rationale to support the exemption revocation requests. The staff concluded that the proposed revocations are acceptable because the licensee had established compliance with 10 CFR part 50, Appendix R, for these items.

The staff has prepared a safety evaluation describing its rationale in granting the requested exemption revocations. The safety evaluation may be examined, and/or copied for a fee, at the NRC's Public Document Room, located at One White Flint North, 11555 Rockville Pike (first floor), Rockville, Maryland. Publicly available records will be accessible electronically from the ADAMS Public Library component on the NRC Web site, http://www.nrc.gov (the Electronic Reading Room).

Therefore, the staff concludes that the subject exemptions from the requirements of the regulations in 10 CFR part 50, Appendix R, are no longer required.

4.0 Conclusion

Accordingly, the Commission has determined that the exemptions granted June 23, 1983, July 21, 1988, and February 25, 1991, related to (1) fuse pulling to preclude operation of the reactor relief valves; (2) a lack of emergency lighting for suppression pool level instrumentation; (3) a lack of suppression in the vicinity of electrical equipment; (4) a lack of 3-hour fire barriers in fire zones 1.1.1.1 (Unit 1) and 1.1.2.1 (Unit 2); (5) a lack of 3-hour fire barriers between redundant residual heat removal trains in the reactor building and turbine building (Units 1 and 2); (6) a lack of 3-hour fire barriers between equivalent fire area 23-1 (8.2.8.D) and the northern and central zone groups; (7) a lack of 3-hour fire barriers for certain 4-kV bus duct penetrations; (8) a lack of 3-hour-rated dampers in certain standby gas treatment and reactor building ventilation ducts; and (9) a lack of complete detection and suppression throughout the reactor building (Units 1 and 2), are hereby revoked.

Pursuant to 10 CFR 51.32, the Commission has determined that the revocation of these exemptions will not have a significant effect on the quality of the human environment (66 FR 49218).

This exemption revocation is effective upon issuance.

Dated at Rockville, Maryland, this 27th day of September 2001.
For the Nuclear Regulatory Commission.
John A. Zwolinski,
Director, Division of Licensing Project Management Office of Nuclear Reactor Regulation.

[FR Doc. 01-24869 Filed 10-3-01; 8:45 am]

BILLING CODE 7590-01-P